DEPARTMENT OF HOMELAND SECURITY

Coast Guard

33 CFR Part 100

[CGD13-07-013]

RIN 1625-AA00

Special local regulation: ULHRA Hydroplane Races, Howard Amon Park, Richland, WA

AGENCY: Coast Guard, DHS.

ACTION: Special local regulation temporary final rule.

SUMMARY: The Coast Guard is undertaking two actions with regard to the above captioned regulation. The first is to withdraw the temporary final rule previously published on April 23, 2007 because it erroneously described the race area. The second is to correct the previous error by establishing a temporary special local regulation for the ULHRA National Series Hydroplane Race to be held on the waters of the Columbia River in the vicinity of Howard Amon Park, Richland, WA. These special local regulations limit the movement of non-participating vessels in the regulated race area. This temporary rule is needed to provide for the safety of life on navigable waters during the event.

DATES: This regulation is effective from 7 a.m. (PDT) to 7 p.m. (PDT) on May 19 and 20, 2007.

ADDRESSES: Documents indicated in this preamble as being available in the docket are part of docket (CGD13-07-013) and are available for inspection or copying at U. S. Coast Guard Sector Portland, 6767 N. Basin Avenue, Portland, Oregon 97217 between 7 a.m. and 4 p.m., Monday through Friday, except Federal holidays.

FOR FURTHER INFORMATION CONTACT: Petty Officer Michelle Duty, c/o Captain of the Port, Portland 6767 N. Basin Avenue, Portland, Oregon 97217, (503) 240-2590.

SUPPLEMENTARY INFORMATION:

Regulatory Information

We did not publish a notice of proposed rulemaking (NPRM) for this regulation. Under 5 U.S.C. 553(b)(B) and 5 U.S.C. 553(d)(3), the Coast Guard finds that good cause exists for not publishing an NPRM and for making this rule effective less than 30 days after publication in the Federal Register. Publishing an NPRM would be contrary to public interest since immediate action is necessary to ensure the safety of vessels and spectators. If normal notice and comment procedures were followed, or if the effective date of this rule were delayed by 30 days, this rule would not become effective until after the date of the event. For this reason, following normal rulemaking procedures in this case would be contrary to the public interest.

Background and Purpose

The Coast Guard is undertaking two actions in this document. The first is to withdraw the temporary final rule previously published on April 23, 2007 at 72 FR 20047 because it erroneously described the race area. The second is to correct the previous error by establishing a temporary special local regulation for the ULHRA National Series Hydroplane Race to be held on the waters of the Columbia River in the vicinity of Howard Amon Park, Richland, WA.

The Coast Guard is establishing a temporary special local regulation to allow for a safe racing event. This event occurs on the Columbia River in the vicinity of Howard Amon Park in Richland, WA and is scheduled to start at 7 a.m. (PDT) and last until 7 p.m. (PDT) on May 19 and 20, 2007. This event may result in a number of recreational vessels congregating near the hydroplane races. The hydroplane race poses several dangers to the public including excessive noise, objects falling from any accidents, and hydroplanes racing at high speeds in proximity to other vessels. Accordingly, the Special local regulation is needed to protect watercraft and their occupants from safety hazards associated with the event. This Special local regulation will be enforced by representatives of the Captain of the Port, Portland, Oregon. The Captain of the Port may be assisted by other federal, state, and local agencies.

Discussion of Rule

This temporary rule will create a regulated area to assist in minimizing the inherent dangers associated with hydroplane races. These dangers include, but are not limited to, excessive noise, race craft traveling at high speed in close proximity to one another and to spectator craft, and the risk of airborne objects from any accidents associated with hydroplanes. In the event that hydroplanes require emergency assistance, rescuers must have immediate and unencumbered access to the craft. The Coast Guard, through this action, intends to promote the safety of personnel, vessels, and facilities in the area. Due to these concerns, public safety requires these regulations to provide for the safety of life on the navigable waters.

Regulatory Evaluation

This temporary rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this temporary rule to be so minimal that a full Regulatory Evaluation under the regulatory policies and procedures of DHS is unnecessary. This expectation is based on the fact that the regulated area established by this rule encompasses an area on the Columbia River near Howard Amon Park in Richland, WA not frequented by commercial navigation. The regulation is established for the benefit and safety of the recreational boating public and the event will pause in order to allow the ferry to pass through the area at its allotted times, any negative recreational boating impact is offset by the benefits of allowing the hydroplanes to race. This rule would be enforced from 7 a.m. to 7 p.m. Pacific Daylight Time each day on May 19 and 20, 2007. For the above reasons, the Coast Guard does not anticipate any significant economic impact.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in a portion of the Columbia River during the time mentioned under Background and Purpose. This Special local regulation will not have a significant economic impact on a substantial number of small entities due to its short duration and small area. The only vessels likely to be impacted will be recreational boaters, small passenger vessel operators, and a ferry that runs through the regulated area twice a day. The event is held for the benefit and entertainment of the recreational and small passenger vessel operators, and the event will pause in order to allow the ferry to pass through the area at its allotted times. Because the impacts of this proposal are expected to be so minimal, the Coast Guard certifies under 605(b) of the Regulatory Flexibility Act (5 U.S.C. 601 et seq.) that this temporary rule will not have a significant economic impact on a substantial number of small entities.

If you think that your business, organization, or governmental jurisdiction qualifies as a small entity and that this temporary rule would have a significant economic impact on it, please submit a comment (see ADDRESSES) explaining why you think it qualifies and how and to what degree this rule would economically affect it.

Assistance for Small Entities

Under section 213(a) of the Small Business Regulatory Enforcement Fairness Act of 1996 (Pub. L. 104-121), we offered to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-888-REG-888-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that order and have determined that this rule does not have implications for federalism under that Order.

Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 or more in any one year. Though this rule will not result in such an expenditure, we do discuss the effects of this rule elsewhere in this preamble.

Taking of Private Property

This rule will not effect taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian tribal governments, because it does not have a substantial direct effect on one or more Indian tribes, on the relationship between the federal government and Indian tribes, or on the distribution of power and responsibilities between the federal government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.1D and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(h) of Commandant Instruction M16475.1D, from further environmental documentation. Special local regulations issued in conjunction with a regatta or marine event permit are specifically excluded from further analysis and documentation under that section.

Under figure 2-1, paragraph (34)(h) of the instruction, an “Environmental Analysis Check List” and a categorical exclusion determination are not required for this rule.

List of Subjects in 33 CFR Part 100

Marine Safety, Navigation (water), Reporting and Recordkeeping requirements, Waterways.

For the reasons discussed in the preamble, the Coast Guard amends 33 CFR Part 100 as follows:

PART 100—SAFETY OF LIFE ON NAVIGABLE WATERS

1. The authority citation for part 100 continues to read as follows:

Authority: 33 U.S.C. 1233; Department of Homeland Security Delegation No. 0170.1.

§ 100.T13-009 [Withdrawn].

2. Withdraw temporary § 100.T13-009.

3. Add temporary § 100.T13-010 to read as follows:

§ 100.T13-010 ULHRA Hydroplane Races Howard Amon Park, Richland, Washington.

(a) Regulated Area. The regulated area is defined as the waters of the Columbia River from bank to bank in the vicinity of Howard Amon Park on the Columbia River in Richland, Washington commencing at the Interstate 182 Bridge and continuing up river Northward 3.0 miles and terminating at the Columbia River Mile 339.

(b) Special Local Regulations. This event will take place from 7 a.m. PDT to approximately 7 p.m. PDT May 19 to 20, 2007, in the described waters of the Columbia River in Richland, Washington.

(1) No persons may enter or remain in the regulated area except for participants in the event, supporting personnel, vessels registered with the event organizer, and personnel or vessels authorized by the Coast Guard Patrol Commander.

(2) The Coast Guard Patrol Commander is a commissioned, warrant, petty officer, or auxiliarist of the Coast Guard who has been designated by Commander, Coast Guard Sector Portland. A Coast Guard Auxiliarist, when so appointed by the COTP per 14 U.S.C 831, may act as the Patrol Commander. The Patrol Commander is empowered to control movement of vessels in the regulated area and adjoining waters during the hours these regulations are in effect.

(3) A succession of sharp, short signals by whistle, siren, or horn from vessels patrolling the area shall serve as a signal to stop. Vessels or persons signaled shall stop and shall comply with the orders of the patrol vessels. Failure to due so may result in the expulsion from the area, citation, for failure to comply or both.

(4) Any spectator vessel may anchor outside the regulated area specified in paragraph (a) of this section, but may not block a navigable channel.

Dated: May 4, 2007.
K.S. Cook,
Captain, U.S. Coast Guard, Acting Commander, 13th Coast Guard District.

[FR Doc. 07-2460 Filed 5-15-07; 9:58 am]

BILLING CODE 4910-15-P